NUCLEAR REGULATORY COMMISSION

[Docket No. 50-277-SLR and 50-278-SLR; ASLBP No. 19-960-01-SLR-BD01]

Establishment of Atomic Safety and Licensing Board: Exelon Generation Company, LLC

Pursuant to delegation by the Commission, see 37 FR 28,710; December 29, 1972, and the Commission's regulations, see, e.g., 10 CFR 2.104, 2.105, 2.300, 2.309, 2.313, 2.318, 2.321, notice is hereby given that an Atomic Safety and Licensing Board (Board) is being established to preside over the following proceeding:

Exelon Generation Company, LLC

(Peach Bottom Atomic Power Station, Units 2 and 3)

This proceeding involves an application seeking a twenty-year subsequent license renewal of Renewed Facility Operating License Nos. DPR-44 and DPR-56, which currently authorize Exelon Generation Company, LLC to operate Peach Bottom Atomic Power Station Units 2 and 3 until, respectively, August 8, 2033 and July 2, 2034. In response to a notice published in the Federal Register announcing the opportunity to request a hearing, see 83 FR 45,285; September 6, 2018, a hearing request has been filed on behalf of Beyond Nuclear, Inc.

The Board is comprised of the following Administrative Judges:

• Michael M. Gibson, Chairman, Atomic Safety and Licensing Board Panel, U.S. Nuclear Regulatory Commission, Washington, DC 20555-0001.

• Dr. Michael F. Kennedy, Atomic Safety and Licensing Board Panel, U.S. Nuclear Regulatory Commission, Washington, DC 20555-0001.

• Dr. Sue H. Abreu, Atomic Safety and Licensing Board Panel, U.S. Nuclear Regulatory Commission, Washington, DC 20555-0001.

All correspondence, documents, and other materials shall be filed in accordance with the NRC E-Filing rule. See 10 CFR 2.302.

Dated: December 12, 2018, in Rockville, Maryland.
Edward R. Hawkens,
Chief Administrative Judge, Atomic Safety and Licensing Board Panel.

[FR Doc. 2018-27276 Filed 12-17-18; 8:45 am]

BILLING CODE 7590-01-P